DEPARTMENT OF COMMERCE

National Oceanic and Atmospheric Administration

Proposed Information Collection; Comment Request; Alaska Rockfish Program: Permits and Reports

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 29, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy A. Bearden, (907) 586-7008 or Patsy.Bearden@noaa.gov.

SUPPLEMENTARY INFORMATION:

I. Abstract

This request is for an extension of a currently approved information collection.

The Rockfish Program determines the access and allocation of the Central Gulf of Alaska (GOA) rockfish fisheries and associated halibut prohibited species catch (PSC), also known as the rights of access to the fishery. Cooperatives were established to receive exclusive harvest privileges for rockfish primary and secondary species. These resource allocations are used to assign the available resources in an economic way. In the case of halibut, a specific amount of halibut mortality is assigned to the cooperative, because halibut is often caught incidentally with rockfish.

The rockfish fisheries are conducted in Federal waters near Kodiak, Alaska, primarily by trawl vessels, and to a lesser extent by longline vessels. The Rockfish Program allocates harvest privileges to holders of License Limitation Program (LLP) licenses with a history of Central GOA rockfish landings associated with those licenses.

II. Method of Collection

Respondents have a choice of online, electronic, or paper forms. Methods of submittal include email of electronic forms, and mail and facsimile transmission of paper forms. Online application allows cooperatives to check in and out in conjunction with their current online account balance Web sites.

III. Data

OMB Control Number: 0648-0545.

Form Number: None.

Type of Review: Regular submission (extension of a currently approved collection).

Affected Public: Business or other for-profit organizations.

Estimated Number of Respondents: 55.

Estimated Time per Response: 2 hours for paper or 10 minutes online for Application for Rockfish Cooperative Fishing Quota (CQ); 10 minutes online for Application for Inter-Cooperative Transfer of Rockfish CQ; 40 hours for Annual Rockfish Cooperative Report; 30 minutes for Rockfish Catch Report; 10 minutes online for Rockfish Vessel Check-in/Checkout Report with Termination of Fishing Declaration; 4 hours for Appeals for Denial of Rockfish Permit; and 10 minutes online for Rockfish Ex-vessel Volume and Value Report.

Estimated Total Annual Burden Hours: 490.

Estimated Total Annual Cost to Public: $222 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 24, 2014.
Gwellnar Banks,
Management Analyst, Office of the Chief Information Officer.

[FR Doc. 2014-17887 Filed 7-29-14; 8:45 am]

BILLING CODE 3510-22-P